DEPARTMENT OF JUSTICE

Drug Enforcement Administration

[Docket No. 15-19]

Jeffrey S. Holverson, M.D.; Decision and Order

On March 27, 2015, the Deputy Assistant Administrator, Office of Diversion Control, Drug Enforcement Administration, issued an Order to Show Cause to Jeffrey S. Holverson, M.D. (Respondent), of Salt Lake City, Utah. The Show Cause Order proposed the revocation of Respondent's DEA Certificate of Registration, pursuant to which he is authorized to dispense controlled substances as a practitioner, solely on the ground that he does “not have authority to handle controlled substances in . . . Utah, the [S]tate in which [he is] registered with the DEA.” Show Cause Order, at 1.

As the factual basis for the proposed action, the Show Cause Order alleged that on January 8, 2015, Respondent “entered into a `Non-Disciplinary Limitation Stipulation and Order' ” with the Utah Division of Occupational and Professional Licensing, pursuant to which he agreed to the suspension of his authority to dispense controlled substances. Id. The Order further alleged that “[t]his suspension remains in effect” and that “[c]onsequently . . . DEA must revoke [his] registration.” Id. (citing 21 U.S.C. 802(21), 823(f), and 824(a)(3)).

Following service of the Show Cause Order, Respondent requested a hearing on the allegations. Order Granting the Govt's Mot. for Summ. Disp. (hereinafter, ALJ Order), at 2. Thereafter, the Government moved for summary disposition on the ground that by virtue of the Non-Disciplinary Limitation Stipulation and Order, which Respondent entered into on January 8, 2015, he “does not have authority to . . . dispense controlled substances” under Utah law, and that notwithstanding that the “suspension may or may not continue” past the 180-day period set forth in the State's Order, “DEA final orders are clear and unequivocal that [Respondent's] registration should be revoked.” Gov't Mot. for Summ. Disp., at 5. While in his hearing request, Respondent had objected to the proposed revocation of his registration, he did not respond to the Government's motion. ALJ Order, at 2-3. The ALJ, finding it undisputed that “the limitation on [Respondent's] ability to prescribe controlled substances will remain in effect until at least July 7, 2015,” and noting that “there is no guarantee that his authority . . . will be restored after 180 days,” granted the Government's motion and recommended that Respondent's registration be revoked and that any pending applications to renew or modify his registration be denied. Id. at 4-6.

Neither party filed exceptions to the ALJ's Order. Thereafter, on June 9, 2015, the ALJ forwarded the record to my Office for Final Agency Action. However, upon review of the record, it was noted that the Non-Disciplinary Limitation Stipulation was due to expire on or about July 7, 2015. Accordingly, on July 27, 2015, I directed the parties to address whether the order remained in effect and if the order no longer was in effect, “to address whether Respondent currently possesses authority to dispense controlled substances under the laws of the State of Utah.” Order of the Administrator, at 1 (July 27, 2015).

On August 5, 2015, the Government filed its Response to my Order. Therein, the Government states that “[t]he time of the Suspension Order has now expired, and DEA has been informed by [the Division of Professional Licensing] that at this time the Suspension order has not been extended.” Gov't Response, at 2. The Government thus acknowledges that “at this time Respondent is allowed to dispense controlled substances under the laws of the State of Utah.” Id. The Government thus requests that the Show Cause Order be dismissed. Id.

Because the Show Cause Order was based solely on Respondent's lack of authority under state law to dispense controlled substances and that factual predicate no longer exists, I grant the Government's request and will dismiss the Show Cause Order.

Order

Pursuant to the authority vested in me by 21 U.S.C. 824(a), as well as 28 CFR 0.100(b), I order that the Order to Show Cause issued to Jeffrey S. Holverson, M.D., be, and it hereby is, dismissed. This Order is effective immediately.

Dated: August 10, 2015.
Chuck Rosenberg,
Acting Administrator.

[FR Doc. 2015-20346 Filed 8-17-15; 8:45 am]

BILLING CODE 4410-09-P